DEPARTMENT OF ENERGY

Federal Energy Regulatory Commission

[Project No. 1403-056]

Pacific Gas and Electric Company; Notice of Application for Temporary Amendment of License and Soliciting Comments, Motions To Intervene, and Protests

May 16, 2008.

Take notice that the following hydroelectric application has been filed with the Commission and is available for public inspection:

a. Type of Application: Request for Temporary Amendment of Article 402 Supplemental Flow Requirements.

b. Project No.: 1403-056.

c. Date Filed: May 15, 2008.

d. Applicant: Pacific Gas and Electric Company.

e. Name of Project: Narrows Hydroelectric Project.

f. Location: At the U. S. Army Corps of Engineers' Englebright Reservoir (Upper Narrows Debris Dam) on the Yuba River, in Nevada County, California.

g. Filed Pursuant to: Federal Power Act, 16 U.S.C. 791a-825r.

h. Applicant Contact: Erich Nolan, Pacific Gas and Electric Company, Mail Code N11C, P.O. Box 770000, San Francisco, CA 94177, Telephone: (415) 973-0344.

i. FERC Contact: Antonia Lattin, antonia.lattin@ferc.gov, Telephone: (415) 369-3334.

j. Deadline for filing comments, motions to intervene and protests: June 6, 2008.

All documents (original and eight copies) should be filed with: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The Pacific Gas and Electric Company (PG&E) is requesting a temporary amendment of the supplemental flow requirements of article 402 under the project license. Because of dry conditions in the project area and the need to manage river flows to protect federally listed Chinook salmon and steelhead trout in the Yuba River below Englebright Dam, PG&E requests that it be allowed to operate the Narrows Project without releasing from 1,500 to 2,000 cubic feet per second (cfs) of supplemental flows from Englebright Dam from May 16 to June 30, 2008. Instead, flows would be released by the Yuba County Water Agency (licensee of FERC Project No. 2246) to the Yuba River so that flows below irrigation diversions are 900 cfs from May 16 to May 31, 2008, and 500 cfs during June 2008, at the downstream Marysville Gage. Under this arrangement, flows from Englebright Dam would be approximately 1,500 cfs from May 16 to May 31, 2008, and 1,100 cfs from June 1 to June 30, 2008. The Marysville Gage is located about 15 miles below Englebright Dam. Included in PG&E's request were letters of concurrence from the state and federal resource agencies.

l. Location of the Application: The filing is available for inspection and reproduction at the Commission's Public Reference Room, located at 888 First Street, NE., Room 2A, Washington, DC 20426 or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified via e-mail or new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(I)(iii) and the instructions on the Commission's Web site at http://www.ferc.gov under the “e-Filing” link.

Kimberly D. Bose,
Secretary.

[FR Doc. E8-11507 Filed 5-21-08; 8:45 am]

BILLING CODE 6717-01-P